DEPARTMENT OF COMMERCE

National Oceanic and Atmospheric Administration

[I.D. 040402B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Recreational Advisory Panel, Monkfish Oversight and Groundfish Oversight Committees in April 2002, to consider actions affecting New England fisheries in the exclusive economic zone (EEZ). Recommendations from these groups will be brought to the full Council for formal consideration and action, if appropriate.

DATES: The meetings will be held between April 26, 2002, and April 30, 2002. See SUPPLEMENTARY INFORMATION for specific dates and times.

ADDRESSES: The meetings will be held in Peabody, MA and Newport News, VA. See SUPPLEMENTARY INFORMATION for specific locations.

FOR FURTHER INFORMATION CONTACT: Paul J. Howard, Executive Director, New England Fishery Management Council, 978-465-0492. Requests for special accommodations should be addressed to the New England Fishery Management Council, 50 Water Street, Mill 2, Newburyport, MA 01950.

SUPPLEMENTARY INFORMATION:

Meeting Dates, Times, Locations, and Agendas

Friday, April 26, 2002, at 9:30 a.m.—Recreational Advisory Panel Meeting

Location: Holiday Inn, One Newbury Street, Route 1, Peabody, MA 01960; telephone: 978-535-4600.

This will be the first meeting of the Recreational Fishing Advisory Panel. After selecting a chair, panel members will review the role of Council advisors. They will then develop recommendations for the Council with respect to the general strategy and overall policy issues facing recreational (including party/charter) fishermen in fisheries managed by the New England Fishery Management Council. The Panel will also discuss the ongoing development of Amendment 13 to the Northeast Multispecies Fishery Management Plan (FMP), and may develop preliminary recommendations for recreational management measures. They will consider these suggested measures and will develop a recommendation that will be reviewed by the Council at a later date. After Council approval, the measures will be analyzed and included in a Draft Supplemental Environmental Impact Statement.

Monday, April 29, 2002, at 10 a.m. and Tuesday, April 30, 2002, at 8:30 a.m.—Monkfish Oversight Committee Meeting.

Location: Omni Newport News Hotel, 1000 Omni Boulevard, Newport News, VA 23606; telephone: 757-873-6664.

The Committee will continue to develop its recommendations to the New England and Mid-Atlantic Councils for management alternatives to be analyzed in the Amendment 2 Draft Supplemental Environmental Impact Statement. Alternatives designed to achieve the approved goals and objectives include, but are not limited to: permit qualification criteria for vessels fishing south of 38N; management program for a deepwater directed fishery in the southern fisheries management area; separation of monkfish days-at-sea (DAS) from multispecies and sea scallop DAS programs, including counting of monkfish DAS as 24-hour days; measures to minimize impacts of the fishery on endangered sea turtles; measures to minimize bycatch in directed in non-directed fisheries including mesh size and other gear requirements; an exemption program for vessels fishing for monkfish outside of the EEZ (in the Northwest Atlantic Fisheries Organization Regulated Area); alternative areas for essential fish habitat (EFH) designation and measures to minimize impacts of the fishery on EFH; measures to improve data collection and research on monkfish, including mechanisms for funding cooperative research programs.

Tuesday, April 30, 2002, at 9:30 a.m.—Groundfish Oversight Committee Meeting

Location: Holiday Inn, One Newbury Street, Route 1, Peabody, MA 01960; telephone: 978-535-4600.

The Committee will continue development of Amendment 13 to the Northeast Multispecies FMP. Amendment 13 will end overfishing and establish rebuilding schedules for overfished stocks. At a meeting on February 27, 2002, the New England Council decided to develop groundfish management measures for five broad areas and one user group: Inshore Gulf of Maine, offshore Gulf of Maine, eastern Georges Bank, western Georges Bank, Southern New England/Mid Atlantic, and recreational/charter/party. This meeting will focus on recreational (including party/charter) fishing for groundfish in the Northeast Region of the National Marine Fisheries Service. Interested parties will be consulted to identify management measures that will achieve specific biological, economic, and social objectives identified by the Council. Such measures may include, but are not limited to, trip or bag limits, changes to the minimum sizes, year-round or seasonal closed areas, or gear changes. The Committee will consider these suggested measures and will develop a recommendation that will be reviewed by the Council at a later date. After Council approval, the measures will be analyzed and included in a Draft Supplemental Environmental Impact Statement.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 4, 2002.
Richard W. Surdi,
Acting Director, Office of Sustainable Fisheries, National Marine Fisheries Service.

[FR Doc. 02-8556 Filed 4-8-02; 8:45 am]

BILLING CODE 3510-22-S